DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: National Flood Insurance Program—Mortgage Portfolio Protection Program (MPPP).

OMB Number: 1660-0086.

Abstract: The MPPP is a mechanism used by lending institutions mortgage servicing companies, and others servicing mortgage loan portfolios to bring the mortgage loan portfolios into compliance with the flood insurance purchase requirements of the Flood Disaster Protection Act of 1973, as amended. Implementation of various requirements of the MPPP should result in mortgagors, following receipt of notification of the need for flood insurance, showing evidence of such a policy or purchasing the necessary insurance through their local insurance agent or appropriate Write Your Own (WYO) Company. It is intended that NFIP policies be written under the MPPP only as a last resort, and only on mortgages whose mortgagors have failed to respond to the various notification required by the Program. The requirements of the MPPP are contained in 44 CFR 62.23(1)(1).

Affected Public: Individuals and households; businesses or other for-profit; not-for-profit institutions; farms; Federal agencies or employees; and State, local or tribal governments.

Number of Respondents: 6,273.

Estimated Time per Respondent: WYO—0.5 minutes; Lender/Services—0.5 minutes; WYO Company Policy—0.25 hours; New WYO Entrant—750 hours.

Estimated Total Annual Burden Hours: 2,386.

Frequency of Response: Once.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6974. Comments must be submitted on or before July 9, 2007.

FOR FURTHER INFORMATION CONTACT: Requests for additional information or copies of the information collection should be made to Chief, Records Management, FEMA, 500 C Street, SW., Room 609, Washington, DC 20472, facsimile number (202) 646-3347, or e-mail address FEMA-Information-Collections@dhs.gov.

Dated: May 25, 2007.
John A. Sharetts-Sullivan,
Chief, Records Management and Privacy, Information Resources Management Branch, Information Technology Services Division, Federal Emergency Management Agency, Department of Homeland Security.

[FR Doc. E7-10941 Filed 6-6-07; 8:45 am]

BILLING CODE 9110-12-P